DEPARTMENT OF HEALTH AND HUMAN SERVICES

Health Resources and Services Administration

Solicitation of Nominations for Membership To Serve on the Centers for Disease Control and Prevention (CDC)/Health Resources and Services Administration (HRSA) Advisory Committee on HIV, Viral Hepatitis and Sexually Transmitted Disease (STD) Prevention and Treatment

AGENCY: HRSA, Department of Health and Human Services (HHS).

ACTION: Request for nominations.

SUMMARY: HRSA is seeking nominations of qualified candidates for consideration for appointment as members of the CDC/HRSA Advisory Committee on HIV, Viral Hepatitis and STD Prevention and Treatment (CHACHSPT). CHACHSPT advises the HHS Secretary, the CDC Director, and the HRSA Administrator on objectives, strategies, policies, and priorities for HIV, viral hepatitis, and STD prevention and treatment efforts. These include surveillance of HIV infection, viral hepatitis, other STDs, and related behaviors; epidemiologic, behavioral, health services, and laboratory research on HIV, viral hepatitis, and other STDs; identification of policy issues related to HIV/viral hepatitis/STD professional education, patient healthcare delivery, and prevention services; agency policies about prevention, treatment, healthcare delivery, and research and training relating to HIV, viral hepatitis and other STDs; strategic issues influencing the ability of CDC and HRSA to fulfill their missions of providing prevention and treatment services; programmatic efforts to prevent and treat HIV, viral hepatitis, and other STDs; and support to the agencies in their development of responses to emerging health needs related to HIV, viral hepatitis, and other STDs.

DATES: HRSA will receive written nominations for CHACHSPT on a continuous basis.

ADDRESSES: Nomination packages must be submitted via email at CHACAdvisoryComm@hrsa.gov.

FOR FURTHER INFORMATION CONTACT: Email chacadvidorycomm@hrsa.gov. A copy of the CHACHSPT charter and list of the current membership may be obtained by accessing the CHACHSPT website at https://www.cdc.gov/maso/facm/facmchachspt.html.

SUPPLEMENTARY INFORMATION: The Secretary of HHS, and by delegation, the CDC Director and the HRSA Administrator, are authorized by the PHS Act to: (1) Conduct, encourage, cooperate with, and assist other appropriate public health authorities, scientific institutions, and scientists in the conduct of research, investigations, experiments, demonstrations, and studies relating to the causes, diagnosis, treatment, control, and prevention of physical and mental diseases, and other impairments; (2) assist states and their political subdivisions in preventing, suppressing, and treating communicable diseases and other preventable conditions and in promoting health and well-being; (3) assist public and non-profit private entities in preventing, controlling and treating STDs, including HIV; (4) improve health and achieve health equity through access to quality services and a skilled health workforce and innovative programs; (5) support healthcare services to persons living with or at risk for HIV, viral hepatitis, and other STDs; and (6) advance the education of health professionals and the public about HIV, viral hepatitis, and other STDs.

CHACHSPT meets two times each calendar year, or at the discretion of the Designated Federal Officer in consultation with the CHACHSPT co-chairs.

Nominations: HRSA is requesting nominations for voting members to serve as Special Government Employees (SGEs) on CHACHSPT. The Secretary of HHS appoints CHACHSPT members with the expertise needed to fulfill the duties of the Advisory Committee. Nominees are sought to provide a balance of diverse experiences and expertise. The Secretary of HHS or his designee shall select members of the CHACHSPT with knowledge in the fields of public health; epidemiology; laboratory practice; immunology; infectious diseases; behavioral health and science including, but not limited, to opioid use and related expertise; health education; healthcare delivery; state health programs; clinical care; preventive health; medical education; health services and clinical research; and healthcare financing. In addition, people with HIV and affected populations, as well as state and local health and education agencies, HIV/viral hepatitis/STD community-based organizations, and the ethics or religious community are encouraged to submit nomination packages for consideration. Current federal employees will not be considered. Interested applicants may self-nominate or be nominated by another individual or organization.

Individuals selected for appointment to CHACHSPT will be invited to serve for up to 4 years. Members appointed as SGEs receive a stipend and reimbursement for per diem and travel expenses incurred for attending CHACHSPT meetings and/or conducting other business on behalf of the CHACHSPT as authorized by 5 U.S.C. 5703 of the Federal Travel Regulation for persons employed intermittently in government service.

The following information must be included in the package of materials submitted for each individual nominated for consideration:

• A letter of interest or personal statement from the nominee stating how their expertise would inform the work of CHACHSPT;

• A biographical sketch of the nominee (500 words or fewer);

• A copy of the nominee's resume or curriculum vitae; and

• The nominee's contact information (address, daytime telephone number, and email address).

Nomination packages may be submitted directly by the individual seeking nomination or by the person/organization recommending the candidate. HRSA will collect and retain nomination packages to create a pool of potential future CHACHSPT members. When a vacancy occurs, HRSA will review nomination packages and may contact nominees at that time. Nominations should be updated and resubmitted every two years for continuing consideration for CHACHSPT vacancies.

Appointments shall be made without discrimination on the basis of age, ethnicity, gender, sexual orientation, or cultural, religious, or socioeconomic status.

Individuals who are selected for appointment will be required to provide detailed information regarding their financial interests and, for example, any work they do for the federal government through research grants or contracts. Disclosure of this information is required in order for HRSA ethics officials to determine whether there is a conflict between the SGE's public duties as a member of CHACHSPT and their private interests, including an appearance of a loss of impartiality as defined by federal laws and regulations, and to identify any required remedial action needed to address the potential conflict.

Authority: CHACHSPT was established under Section 222 of the Public Health Service (PHS) Act, [42 U.S.C. 217a], as amended. CHACHSPT is governed by the provisions of the Federal Advisory Committee Act, as amended, 5 U.S.C. App., which sets forth requirements for the formation and use of advisory committees.

Maria G. Button,
Director, Executive Secretariat.

[FR Doc. 2019-27301 Filed 12-18-19; 8:45 am]

BILLING CODE 4165-15-P